DEPARTMENT OF COMMERCE

International Trade Administration

Proposed Information Collection; Comment Request; Domestic and International Clients Export Services and Customized Forms

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 2, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Joe Carter, Office of Strategic Planning, 1999 Broadway, Suite 2205 Denver, CO 80220, (303) 844-5656, joe.carter@trade.gov.

SUPPLEMENTARY INFORMATION:

I. Abstract

The International Trade Administration's Global Markets (GM) is seeking approval to renew the currently approved OMB control number: 0625-0143. These collections include all client intake, events/activities and export success forms. This comprehensive information collection will cover all aspects of a U.S. organization's life-cycle with GM.

GM is mandated by Congress to help U.S. organizations, particularly small and medium-sized organizations, export their products and services to global markets. As part of its mission, GM provides market entry/expansion services and trade events to U.S. organizations.

The Domestic and International Clients Export Services and Customized Forms are needed to collect information to enable, but not limited to small and medium sized, U.S. organizations to efficiently and effectively enhance their ability to determine which international organizations are most suited for their exporting expansion efforts.

The key to effectively and efficiently assist U.S. organizations export is identifying and verifying potential international buyers of U.S. goods and services. The categories of questions are: Contact information, organization information, organization type, agreements and confirmations, objectives, products and services, exporting experience, marketing, events and activities, trade fair/show, certified trade missions, trade missions, advocacy, environment, and education. GM asks only those questions that provide the required information to assist GM in fulfilling a client's objective for a requested service and/or event/activity.

As GM moves forward, we understand the importance and need for strategic planning and integration of future technology and initiatives that relate to GM programs and metrics with the types of information collected from clients to conduct those programs. Additionally, the most important, positive impact is the ability to quickly change and ask pertinent questions to assist clients with their exporting needs regarding matchmaking services, organization promotions, trade missions, market research and other trade promotional activities.

II. Method of Collection

The information will be collected through Export.gov or sent via email and then completed by client electronically.

III. Data

OMB Control Number: 0625-0143.

Form Number(s): ITA-4096P.

Type of Review: Regular submission; renewal of a currently approved collection.

Affected Public: Business or other for-profit organizations.

Estimated Number of Respondents: 50,000.

Estimated Time per Response: 5-25 minutes.

Estimated Total Annual Burden Hours: 20,833 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 26, 2014.
Glenna Mickelson,
Management Analyst, Office of the Chief Information Officer.

[FR Doc. 2014-28352 Filed 12-1-14; 8:45 am]

BILLING CODE 3510-FP-P